DEPARTMENT OF ENERGY

Federal Energy Regulatory Commission

[Project No. 14421-000]

Freedom Falls, LLC; Notice of Application Ready for Environmental Analysis and Soliciting Comments, Recommendations, and Terms and Conditions, and Establishing an Expedited Schedule for Processing

Take notice that the following hydroelectric application has been filed with the Commission and is available for public inspection.

a. Type of Application: Exemption from Licensing.

b. Project No.: 14421-000.

c. Date filed: June 1, 2012.

d. Applicant: Freedom Falls, LLC.

e. Name of Project: Freedom Falls Hydroelectric Project.

f. Location: On Sandy Stream, in the Town of Freedom, Waldo County, Maine. The project would not occupy lands of the United States.

g. Filed Pursuant to: Public Utility Regulatory Policies Act of 1978, 16 U.S.C. 2705, 2708.

h. Applicant Contact: Anthony P. Grassi, Freedom Falls, LLC, 363 Belfast Road, Camden, ME 04843, (207) 236-4663.

i. FERC Contact: Samantha Davidson, (202) 502-6839 or samantha.davidson@ferc.gov.

j. Deadline for filing comments, recommendations, and terms and conditions: Due to the small size and particular location of this project and the close coordination with state and federal agencies during the preparation of the application, the 60-day timeframe in 18 CFR 4.34(b) for filing comments, recommendations, and terms and conditions is shortened. Instead, comments, recommendations, and terms and conditions will be due 30 days from the issuance date of this notice. All reply comments must be filed with the Commission within 45 days from the issuance date of this notice.

All documents may be filed electronically via the Internet. See 18 CFR 385.2001(a)(1)(iii) and the instructions on the Commission's Web site http://www.ferc.gov/docs-filing/ferconline.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The proposed Freedom Falls Hydroelectric Project would consist of: (1) An existing 90-foot-long, 12-foot-high concrete-capped stone masonry dam with a 25-foot-long, 10-foot-high spillway with two vertical lift sluice gates and a crest elevation of 452.5 feet mean sea level (msl); (2) an existing 1.6-acre impoundment with a normal maximum water surface elevation of 453.0 feet msl; (3) a new intake structure equipped with an 8-foot-high, 5-foot-wide trashrack that would be modified to have 1-inch clear bar spacing, and a 3-foot-high, 4.75-foot-wide slide gate; (4) a new downstream American eel passage facility and working platform; (5) a new 60-foot-long, 30-inch-diameter steel penstock leading to; (6) an existing 20-foot-wide, by 30-foot-long generating room containing a new 38.3 kilowatt turbine-generator unit; (7) a new 20-foot-long, 5-foot-wide tailrace; (8) a new 30-foot-long, 110-volt transmission line; and (9) appurtenant facilities. The proposed project is estimated to generate an average of 66,000 kilowatt-hours annually.

m. A copy of the application is available for review at the Commission in the Public Reference Room or may be viewed on the Commission's Web site at http://www.ferc.gov using the “eLibrary” link. Enter the docket number excluding the last three digits in the docket number field to access the document. For assistance, contact FERC Online Support. For assistance, contact FERC Online Support. A copy is also available for inspection and reproduction at the address in item h above.

All filings must (1) bear in all capital letters the title “COMMENTS”, “REPLY COMMENTS”, “RECOMMENDATIONS,” or “TERMS AND CONDITIONS,” (2) set forth in the heading the name of the applicant and the project number of the application to which the filing responds; (3) furnish the name, address, and telephone number of the person submitting the filing; and (4) otherwise comply with the requirements of 18 CFR 385.2001 through 385.2005. All comments, recommendations, or terms and conditions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. Procedural schedule: The application will be processed according to the following procedural schedule. Revisions to the schedule may be made as appropriate.

Milestone | Target date
Notice of the availability of the EA | March 2013.

Dated: October 16, 2012.
Kimberly D. Bose,
Secretary.

[FR Doc. 2012-25881 Filed 10-19-12; 8:45 am]

BILLING CODE 6717-01-P